DEPARTMENT OF HEALTH AND HUMAN SERVICES

Food and Drug Administration

21 CFR Part 73

[Docket No. 97C-0415]

Listing of Color Additives Exempt From Certification; Luminescent Zinc Sulfide; Correction

AGENCY: Food and Drug Administration, HHS.

ACTION: Final rule; correction.

SUMMARY: The Food and Drug Administration (FDA) is correcting a final rule that appeared in the Federal Register of August 8, 2000 (65 FR 48375). This document amended the color additive regulations to provide for the safe use of luminescent zinc sulfide as a color additive in certain externally applied cosmetics. In amending the color additive regulations, the document inadvertently omitted a phrase from the codified. This document corrects that error.

EFFECTIVE DATE: This rule is effective December 1, 2000.

FOR FURTHER INFORMATION CONTACT: Aydin Oearstan, Center for Food Safety and Applied Nutrition (HFS-215), Food and Drug Administration, 200 C St. SW., Washington, DC 20204, 202-418-3076.

SUPPLEMENTARY INFORMATION: In FR Doc. 00-19952, appearing on page 48377 in the Federal Register of August 8, 2000, the following correction is made:

§ 73.2995 [Corrected]

1. On page 48377, in the second column, in § 73.2995 Luminescent zinc sulfide, in paragraph (c), beginning in the fifth line, the phrase “(included under § 720.4(c)(7)(ix) and (c)(8)(v) of this chapter) subject” is corrected to read “and nail polish included under § 720.4(c)(7)(ix) and (c)(8)(v) of this chapter, respectively,”.

Dated: November 21, 2000.
L. Robert Lake,
Director of Regulations and Policy, Center for Food Safety and Applied Nutrition.

[FR Doc. 00-30580 Filed 11-30-00; 8:45 am]

BILLING CODE 4160-01-F